ENVIRONMENTAL PROTECTION AGENCY

[FRL -7513-6]

Science Advisory Board, Request for Nominations for Experts for the Panel on the EPA's Report on the Environment (ROE)

AGENCY: Environmental Protection Agency (EPA).

ACTION: Notice.

SUMMARY: The EPA Science Advisory Board (SAB, Board) announces the formation of a new SAB Panel on the EPA's Report on the Environment, and is soliciting nominations for members of the panel.

DATES: Nominations should be submitted by July 8, 2003.

ADDRESSES: Nominations should be submitted in electronic format through the Form for Nominating Individuals to Panels of the EPA Science Advisory Board provided on the SAB Web site. The form can be accessed through a link on the blue navigational bar on the SAB Web site, www.epa.gov/sab. To be considered, all nominations must include the information required on that form. Anyone who is unable to submit nominations via this form may contact Dr. James Rowe, Designated Federal Officer (DFO) as indicated below.

FOR FURTHER INFORMATION CONTACT: Any member of the public wishing further information regarding this Request for Nominations may contact Dr. James Rowe, Designated Federal Officer, EPA Science Advisory Board by telephone/voice mail at (202) 564-6488, by fax at (202) 501-0323; or via email at rowe.james@epa.gov. Dr. Rowe can also be reached via mail at U.S. EPA Science Advisory Board (1400A), Washington DC 20460. General information about the SAB can be found in the SAB Web site at http://www.epa.gov/sab.

SUPPLEMENTARY INFORMATION:

Summary: The SAB is announcing the formation of a new Panel to provide advice to the Agency on the EPA's Report on the Environment (ROE). The ROE is a report which seeks to address the status of and trends in environmental conditions and their impacts on human health and the nation's natural resources. The SAB is soliciting nominations to establish the membership of this new Panel.

This Panel is being formed to provide advice to the Agency, as part of the EPA SAB mission, established by 42 U.S.C. 4365, to provide independent scientific and technical advice, consultation, and recommendations to the EPA Administrator on the technical bases for EPA regulations.

The Board is a chartered Federal Advisory Committee, which reports directly to the Administrator. Members of the Panel will provide advice to the Agency, through the SAB's Executive Committee. The Panel will comply with the provisions of FACA and all appropriate SAB procedural policies, including the SAB process for panel formation described in the EPA Science Advisory Board (SAB) Panel Formation Process: Immediate Steps to Improve Policies and Procedures—An SAB Commentary (EPA-SAB-EC-COM-002-003), http://www.epa.gov/sab/pdf/ecm02003.pdf.

This project is intended as a six month advisory effort which may be repeated yearly to revise the ROE as needed or requested; the background for the effort and the charge to the Panel is described below.

Background: The Agency is seeking the SAB's advice in the development of the Agency's Report on the Environment. EPA's “Environmental Indicators Initiative” will improve the Agency's ability to report on the status of and trends in environmental conditions and their impacts on human health and the nation's natural resources. Background materials are provided on the EPA Web site at http://www.epa.gov/indicators. Using available data and indicators, EPA and its partners are drafting a “Report on the Environment” (ROE) that will address many of the public's frequently-asked questions and document the progress that the United States is making in meeting our national environmental and health protection goals. The ROE will:

(1) Describe current national environmental trends using existing data and indicators;

(2) Identify data gaps and research needs;

(3) Discuss the challenges government and our partners face in filling those gaps; and

(4) Be accompanied by supporting technical information.

The report consists of two parts, a technical document and a summary or synthesis document designed for general public review. The report covers five “theme” areas':

(1) Cleaner Air: Impacts of indoor air quality on human health and of outdoor air quality on health and ecosystems.

(2) Purer Water: Drinking water, recreational water use, the condition of the nation's water resources, and the living resources sustained by them.

(3) Better Protected Land: Land use and activities that affect the condition of the American landscape, including information on agricultural practices, Integrated Pesticide Management, waste management, emergency response and preparedness, and recycling.

(4) Human Health: Trends in diseases, human exposure to environmental pollutants, and diseases thought to be related to environmental pollution.

(5) Ecological Condition: A look at our living and natural resources, current pressures or stressors on those resources, and a look at their sustainability into the future.

A final chapter discusses key challenges and proposed partnerships and “next steps” to address those challenges.

Charge to the Panel: The specific details of the charge remain to be finalized, however, in general, the SAB Review Panel is requested to: (1) Assess the adequacy of the report in defining the purpose, scope and value to public health of the report, (2) consider the adequacy of the technical content of the five theme areas with regard to completeness of the technical data used to identify and establish the environmental indicators and their relevance to the area of concern, and, (3) evaluate appropriateness of the conclusions/future directions identified. The review will occur in two stages, with a review of the technical chapters of the report, and a review of the Synthesis chapter of the report. The reviews will be held in Washington, DC with the first meeting tentatively planned for September, 2003.

SAB Request for Nominations: The EPA requests nominations of individuals who are highly regarded national level experts with one or more of the following disciplines necessary to address the charge:

(a) Epidemiology of environmental pollutants

(b) Human exposure to environmental pollutants

(c) Human health risk assessment of environmental pollutants

(d) Natural resources management

(e) Whole ecosystems research

(f) Ecological risk assessment

(g) Ecosystems sustainability

(h) Environmental indicators

(i) Water resources management

(j) Land use management

(k) Waste management

(l) Emergency response and preparedness

(m) Air quality

Process and Deadline for Submitting Nominations: Any interested person or organization may nominate qualified individuals to add expertise to the Panel in the areas of expertise described above. Individuals may self-nominate. Nominations should be submitted in electronic format through the Form for Nominating Individuals to Panels of the EPA Science Advisory Board provided on the SAB Web site. The form can be accessed through a link on the blue navigational bar on the SAB Web site, www.epa.gov/sab. To be considered, all nominations must include the information required on that form.

Anyone who is unable to submit nominations using this form, and who has any questions concerning any aspects of the nomination process may contact Dr. James Rowe as indicated above in this FR notice. Nominations should be submitted in time to arrive no later than July 17, 2003.

The EPA Science Advisory Board will acknowledge receipt of the nomination and inform nominators of the panel selected. From the nominees identified by respondents to this Federal Register notice (termed the “Widecast”), SAB Staff will develop a smaller subset (known as the “Short List”) for more detailed consideration. Criteria used by the SAB Staff in developing this Short List are given at the end of the following paragraph. The Short List will be posted on the SAB Web site at: http://www.epa.gov/sab, and will include, for each candidate, the nominee's name and their biosketch. Public comments will be accepted for 21 calendar days on the Short List. During this comment period, the public will be requested to provide information, analysis or other documentation on nominees that the SAB Staff should consider in evaluating candidates for Panel.

For the EPA SAB, a balanced review panel (i.e., committee, subcommittee, or panel) is characterized by inclusion of candidates who possess the necessary domains of knowledge, the relevant scientific perspectives (which, among other factors, can be influenced by work history and affiliation), and the collective breadth of experience to adequately address the charge. Public responses to the Short List candidates will be considered in the selection of the panel, along with information provided by candidates and information gathered by EPA SAB Staff independently on the background of each candidate (e.g., financial disclosure information and computer searches to evaluate a nominee's prior involvement with the topic under review). Specific criteria to be used in evaluating an individual subcommittee member include: (a) Scientific and/or technical expertise, knowledge, and experience (primary factors); (b) absence of financial conflicts of interest; (c) scientific credibility and impartiality; (d) availability and willingness to serve; and (e) ability to work constructively and effectively in committees.

Short List candidates will also be required to fill-out the “Confidential Financial Disclosure Form for Special Government Employees Serving on Federal Advisory Committees at the U.S. Environmental Protection Agency” (EPA Form 3110-48). This confidential form, which is submitted by EPA SAB Members and Consultants, allows government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf. Subcommittee members will likely be asked to attend to attend at least two public face-to-face meetings and several public conference call meetings over the anticipated course of the advisory activity.

Dated: June 10, 2003.
Vanessa T. Vu,
Director, EPA Science Advisory Board Staff Office.

[FR Doc. 03-15259 Filed 6-16-03; 8:45 am]

BILLING CODE 6560-50-P